DEPARTMENT OF COMMERCE

National Oceanic and Atmospheric Administration

[I.D. 021704D]

North Pacific Fishery Management Council; Public Meetings

AGENCY: National Marine Fisheries Service (NMFS), National Oceanic and Atmospheric Administration (NOAA), Commerce.

ACTION: Notice of public meetings.

SUMMARY: The North Pacific Fishery Management Council's (Council) Gulf of Alaska (GOA) and Bering Sea/Aleutian Islands (BS/AI), King and Tanner, Scallop, plan teams will meet via video conference in 4 locations and by teleconference, telephone: 907-586-7060.

DATES: The meetings will be held on March 8, 2004, from 8 a.m. to 12 noon, 1 p.m. to 4 p.m., Alaska Time); March 9, 2004, from 10:30 a.m. to 12:30 p.m., 1:30 p.m. to 4 p.m., Alaska Time).

ADDRESSES: The listening stations are located in Anchorage, Juneau, Kodiak, AK and Seattle, WA. See SUPPLEMENTARY INFORMATION for locations.

Council address: North Pacific Fishery Management Council, 605 W. 4th Ave., Suite 306, Anchorage, AK 99501-2252.

FOR FURTHER INFORMATION CONTACT: Diana Stram, Cathy Coon, North Pacific Fishery Management Council; telephone: 907-271-2809.

SUPPLEMENTARY INFORMATION: The listening/video stations are as follows:

North Pacific Fishery Management Council, 605 W 4th Avenue, Room 301, Anchorage, AK;

Alaska Fisheries Science Center, 7600 Sand Point Way N.E., Building 4, Conference Room, Seattle, WA;

NMFS, 709 W 9th Street, 4th Floor, Sustainable Fisheries Conference Room, Juneau, AK;

Fishery Industry Technology Center, 301 Research Center, Conference Room, Kodiak, AK.

The meetings will begin at 8 a.m. on March 8. The plan team will review proposals for designation of Habitat Areas of Particular Concern (HAPC), that were submitted to the Council. The plan teams will evaluate the proposals and develop recommendations to assist the Council with development of HAPC designation alternatives.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen, 907-271-2809, at least 5 working days prior to the meeting date.

Dated: February 18, 2004.
Tracey Thompson,
Acting Director, Office of Sustainable Fisheries, National Marine Fisheries Service.

[FR Doc. E4-347 Filed 2-20-04; 8:45 am]

BILLING CODE 3510-22-S